DEPARTMENT OF COMMERCE

National Oceanic and Atmospheric Administration

[I.D. 091906C]

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Atlantic Mackerel, Squid, and Butterfish Committee, its Advisors, and the Amendment 10 Fishery Management Action Team (FMAT) will hold a public meeting.

DATES: The meeting will be held on Wednesday, October 18, 2006, from 8 a.m. to 5:30 p.m. See SUPPLEMENTARY INFORMATION for meeting agenda.

ADDRESSES: The meeting will be held at the Montauk Yacht Club Resort and Marina, 32 Star Island Road, Montauk, NY 11954, telephone: (888) 692-8668.

Council address: Mid-Atlantic Fishery Management Council, 300 S. New Street, Dover, DE 19904, telephone: (302) 674-2331.

FOR FURTHER INFORMATION CONTACT: Daniel T. Furlong, Executive Director, Mid-Atlantic Fishery Management Council; telephone: (302) 674-2331, extension 19.

SUPPLEMENTARY INFORMATION: The purpose of this meeting is to discuss management measures necessary to rebuild the overfished butterfish stock including bycatch reduction measures in the Loligo fishery.

Special Accommodations

This meeting is physically accessible to people with disabilities. Requests for sign language interpretation or other auxiliary aids should be directed to M. Jan Saunders (302) 674-2331 extension 18 at least 5 days prior to the meeting date.

Dated: September 20, 2006.
Tracey L. Thompson,
Acting Director, Office of Sustainable Fisheries, National Marine Fisheries Service.

[FR Doc. E6-15687 Filed 9-25-06; 8:45 am]

BILLING CODE 3510-22-S